SECURITIES AND EXCHANGE COMMISSION

[File No. 500-1]

In the Matter of V-Twin Holdings, Inc. (n/k/a Tobacco One, Inc.), Valley Media, Inc., Venturequest Group, Inc. (n/k/a Dex-Ray Resources, Inc.), Verex Laboratories, Inc., Vibro-Tech Industries, Inc., Video City, Inc., and Vidikron Technologies Group, Inc.; Order of Suspension of Trading

August 11, 2009.

It appears to the Securities and Exchange Commission that there is a lack of current and accurate information concerning the securities of V-Twin Holdings, Inc. (n/k/a Tobacco One, Inc.) because it has not filed any periodic reports since the period ended March 31, 2001.

It appears to the Securities and Exchange Commission that there is a lack of current and accurate information concerning the securities of Valley Media, Inc. because it has not filed any periodic reports since the period ended September 29, 2001.

It appears to the Securities and Exchange Commission that there is a lack of current and accurate information concerning the securities of Venturequest Group, Inc. (n/k/a Dex-Ray Resources, Inc.), because it has not filed any periodic reports since the period ended September 30, 2001.

It appears to the Securities and Exchange Commission that there is a lack of current and accurate information concerning the securities of Verex Laboratories, Inc. because it has not filed any periodic reports since the period ended March 31, 2002.

It appears to the Securities and Exchange Commission that there is a lack of current and accurate information concerning the securities of Vibro-Tech Industries, Inc. because it has not filed any periodic reports since it filed a Form 10-SB on January 5, 2000.

It appears to the Securities and Exchange Commission that there is a lack of current and accurate information concerning the securities of Video City, Inc. because it has not filed any periodic reports since the period ended July 31, 2003.

It appears to the Securities and Exchange Commission that there is a lack of current and accurate information concerning the securities of Vidikron Technologies Group, Inc. because it has not filed any periodic reports since the period ended March 31, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 11, 2009, through 11:59 p.m. EDT on August 24, 2009.

By the Commission.
Jill M. Peterson,
Assistant Secretary.

[FR Doc. E9-19486 Filed 8-11-09; 8:45 am]

BILLING CODE 8010-01-P